FEDERAL COMMUNICATIONS COMMISSION

[CG Docket No. 10-145; DA 10-1324]

Accessible Mobile Phone Options for People Who Are Blind, Deaf-Blind, or Have Low Vision

AGENCY: Federal Communications Commission.

ACTION: Notice.

SUMMARY: In this document, the Commission, via the Wireless Telecommunications Bureau and the Consumer and Governmental Affairs Bureau (“the Bureaus”), seeks input from all stakeholders in order to be fully informed on issues raised by consumers and to determine the appropriate next steps to achieve telecommunications access. The Bureaus seek input on the following issues: The wireless phone features and functions in the current marketplace that are not accessible for people who are blind, have vision loss, or are deaf-blind and the extent to which gaps in accessibility are preventing wireless communication access by these populations; the cost and feasibility of technical solutions to achieve wireless accessibility for these populations; reasons why there are not a greater number of wireless phones—particularly among less expensive or moderately-priced handset models—that are accessible to people who are blind or have vision loss; technical obstacles, if any, to making wireless technologies compatible with Braille displays, as well as the cost and feasibility of technical solutions to achieve other forms of compatibility with wireless products and services for people who are deaf-blind; recommendations on the most effective and efficient technical policy solutions for addressing the needs of consumers with vision disabilities, including those who are deaf-blind; and recommendations on actions that the Bureaus or the Commission should take to address the current lack of access. For example, is additional guidance needed on specific access features that should be included in wireless products? Should the Bureaus or the Commission facilitate a dialogue among stakeholders in order to reach a specific agreement to address the accessibility concerns outlined herein?

DATES: Comments are due on or before September 13, 2010. Reply comments are due on or before September 30, 2010.

ADDRESSES: Federal Communications Commission, 445 12th Street, SW., Washington, DC 20554. Pursuant to 47 CFR 1.415 and 1.419, interested parties may file comments and reply comments regarding document DA 10-145 on or before the dates indicated on the first page of this document. You may submit comments, identified by [CG Docket number 10-145] by any of the following methods:

• Electronic Filers: Comments may be filed electronically using the Internet by accessing the Commission's Electronic Comment Filing System (ECFS) http://fjallfoss.fcc.gov/ecfs2/ or the Federal eRulemaking Portal: http://www.regulations.gov. Filers should follow the instructions provided on the Web site for submitting comments. For ECFS filers, in completing the transmittal screen, filers should include their full name, U.S. Postal Service mailing address, and the applicable docket, which in this instance is CG Docket No. 10-145.

• Parties may also submit an electronic comment by Internet e-mail. To get filing instructions, filers should send an e-mail to ecfs@fcc.gov, and include the following words in the body of the message, “get form (your e-mail address).” A sample form and directions will be sent in response.

• Paper Filers: Parties who choose to file by paper must file an original and four copies of each filing. Filings can be sent by hand or messenger delivery, by commercial overnight courier, or by first-class or overnight U.S. Postal Service mail. In addition, parties must send one copy of each pleading to: The Commission's duplicating contractor, Best Copy and Printing, Inc., 445 12th Street, SW., Washington, DC 20554.

• All filings must be addressed to the Commission's Secretary, Office of the Secretary, Federal Communications Commission. All hand-delivered or messenger-delivered paper filings for the Commission's Secretary must be delivered to FCC Headquarters at 445 12th St., SW., Room TW-A325, Washington, DC 20554. All hand deliveries must be held together with rubber bands or fasteners. Any envelopes must be disposed of before entering the building. The filing hours are 8 a.m. to 7 p.m.

• Commercial overnight mail (other than U.S. Postal Service Express Mail and Priority Mail) must be sent to 9300 East Hampton Drive, Capitol Heights, MD 20743. U.S. Postal Service first-class, Express, and Priority mail must be addressed to 445 12th Street, SW., Washington, DC 20554.

FOR FURTHER INFORMATION CONTACT: Elizabeth Lyle, Wireless Telecommunications Bureau, (202) 418-1776 (voice), (202) 418-1169 (TTY), or e-mail at Elizabeth.Lyle@fcc.gov.

SUPPLEMENTARY INFORMATION: This is a summary of the Commission's document DA 10-1324, released July 19, 2010 in CG Docket No. 10-145. Document DA 10-1324 was released under a new docket number, CG Docket No. 10-145, which shall be captioned “Accessible Mobile Phone Options for People who are Blind, Deaf-blind, or Have Low Vision,” and include all related matters. This new docket number is established to further administrative efficiency. The full text of document DA 10-1324 and copies of any subsequently filed documents in this matter will be available for public inspection and copying via ECFS and during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone: (202) 488-5300, fax: (202) 488-5563, or e-mail http://www.bcpiweb.com. Document DA 10-1324 can also be downloaded in Word or Portable Document Format (PDF) at http://www.fcc.gov/cgb/dro/headlines.html.

People with Disabilities: To request materials in accessible formats for people with disabilities (Braille, large print, electronic files, audio format), send an e-mail to fcc504@fcc.gov or call the Consumer and Governmental Affairs Bureau at (202) 418-0530 (voice) or (202) 418-0432 (TTY).

Synopsis

On May 13, 2010, the Bureaus held a workshop on “Expanding Disability Access with Wireless Technologies” (Wireless Access Workshop) to learn more about mobile communications issues facing people with disabilities and the ways in which new technologies can offer opportunities to meet the communications access needs of this community. Participants included stakeholders from the disability community, industry, academia, and non-profit organizations. On June 15, 2010, the Consumer and Governmental Affairs Bureau met with twelve members of the deaf-blind community, along with representatives of the Helen Keller National Center and the American Association of the Deaf-Blind. The purpose of this meeting was to discuss telecommunications and Internet barriers experienced by this population.

Based on the input that Commission staff received during these events, along with the record developed in conjunction with the National Broadband Plan, the Bureaus are concerned that people who are blind or have other vision disabilities have few accessible and affordable wireless phone options. More specifically, according to statements made at the workshop, the vast majority of mobile telephones are not accessible to this population without the addition of expensive software. The Bureaus are also concerned that many wireless technologies may not be compatible with Braille displays needed by individuals who are deaf-blind. In addition, according to the participants of the June 15th meeting, many specialized technologies needed to enable wireless telecommunications access for the deaf-blind community are cost prohibitive and difficult to find.

Federal Communications Commission.
Karen Peltz Strauss,
Deputy Chief, Consumer and Governmental Affairs Bureau.

[FR Doc. 2010-19298 Filed 8-4-10; 8:45 am]

BILLING CODE 6712-01-P